DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Mary Jean Pajak, Federal Emergency Management Agency, 500 C Street SW., Washington, DC 20472, (202) 646-2831.

SUPPLEMENTARY INFORMATION: The Federal Emergency Management Agency makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. * Elevation in feet (NGVD)
CALIFORNIA
Colusa County and Incorporated Areas, (FEMA Docket No. # B-7430)
Elk Creek:
At confluence with Salt Creek | * 138
Approximately 1,250 feet downstream of Reddington Road | * 156
Salt Creek:
Just upstream of Interstate 5 southbound | * 125
Approximately 1,250 feet upstream of Hillgate Road | * 172
Stone Corral Creek:
Right overbank overflow at landing strip in NW corner of Section 34, Township 17N, Range 3W | * 87
Approximately 350 feet upstream of Cemetery Road | * 102
Stone Corral Creek, Right Overbank:
Right overbank overflow at landing strip in NW corner of Section 34, Township 17N, Range 3W | * 87
Approximately 350 feet upstream of Cemetery Road | * 102
Stone Corral Creek, Left Overbank:
Approximately 2,200 feet downstream of Interstate 99 | * 90
Approximately 350 feet of Cemetery Road | * 102
Salt Creek, Right Overbank:
Approximately 300 feet west of the intersection of Bailey Road and Southern Pacific Road | * 128
Approximately 2,500 feet southwest of intersection of Hillgate Road and Almond Avenue | #1
Salt Creek, Left Overbank:
Approximately 1,700 feet north of confluence of Salt Creek and Elk Creek | #1
Approximately 1,700 feet west of intersection of Hillgate Road and Almond Avenue | #1
Local Ponding:
Approximately 1,000 feet southwest of Maxwell Sites Road and Interstate 5 | #1
Approximately 1,500 feet northwest of Maxwell Sites Road and Interstate 5 | * 87
Approximately 1,700 feet west of interstate of E Street and Venice Boulevard | * 89
Approximately 1,100 feet east of confluence of Salt Creek and Spring Creek | * 90
Just upstream of intersection of Maxwell Sites Road and Southern Pacific Railroad | * 88
At intersection of Finks Road and Cemetery Road | #2
Approximately 1,000 feet northeast of Hillgate Road and Interstate 5 | #1
Approximately 1,200 feet southwest of Hillgate Road and Interstate 5 | #1
Approximately 2,300 feet east of Hillgate Road and Southern Pacific Railroad | #1
Approximately 1,200 feet east of Hillgate Road and Southern Pacific Railroad | #2
Approximately 1,500 feet west of Hillgate Road and Southern Pacific Railroad | #1
Maps are available for inspection at the Colusa County Courthouse Office of County Clerk, 547 Market Street, or the Colusa County Department of Public Works, 1215 Market Street, Colusa, California.
———
Lake Elsinore (City), River-side County, (FEMA Docket No. # B-7433)
Lake Elsinore: At Lake Elsinore | * 1,263
San Jacinto River:
Approximately 1,400 feet downstream of Lakeshore Drive | * 1,274
Just above U.S. Route 15 | * 1,274
Approximately 1.6 miles upstream of Summerhill Drive | * 1,309
Tenescal Wash:
Just downstream of Riverside Drive | * 1,258
At Tenth Street | * 1,259
Just downstream of Chaney Street | * 1,262
Maps are available for inspection at the City Hall City Engineers Office, c/o Mr. Richard A. Hess, 130 South Main Street, Lake Elsinore, California.
———
Riverside County and Incor-porated Areas, (FEMA Docket No. # B-7433)
Lakeland Village Channel:
Approximately 460 feet downstream of Grand Avenue | * 1,265
Just upstream of Ralley Avenue | * 1,293
At Nelson Avenue | * 1,351
Lake Elsinore: At Lake Elsinore | * 1,263
Maps are available for inspection at the Riverside County Flood Control and Water Conservation District, 1995 Market Street, Riverside, California.
WASHINGTON
Anacortes (City), Skagit County, (FEMA Docket No. # B-7425)
Burrows Bay: Along shoreline to Fidalgo Head including Burrows Pass | * 7
Guemes Channel: Along shoreline from Shannon Point to Fidalgo Bay | * 9
Fidalgo Bay: Along shoreline to Guemes Channel | * 7
Rosario Strait: Along shoreline form Fidalgo Head to Shannon Point | * 9
Maps are available for inspection at City Hall, 904 6th Street, Anacortes, Washington.
WYOMING
Lincoln County, (FEMA Docket No. # B-7430)
Approximately 2,500 feet downstream of McCox Road | * 5,623
Just upstream of Secondary Highway 239 | * 5,775
Approximately 9,000 feet upstream of U.S. Highway 89 | * 5,987
Maps are available for inspection at the Emergency Management Office, 520 Topaz Street, Kemmerer, Wyoming 83101.

Source of flooding and location | # Depth in feet above ground. * Elevation in feet (NGVD) | Communities affected
COLORADO
Jefferson County and Incorporated Areas, (FEMA Docket No. # B-7427)
North Branch Airport Creek: |  | Jefferson County (Uninc. Areas).
Approximately 1,800 feet downstream of Wadsworth Avenue | * 5,440
Approximately 700 feet upstream of Wadsworth Avenue | * 5,534
Bear Creek: |  | City of Lakewood.
Approximately 4,000 feet downstream of South Wadsworth Boulevard | * 5,357
Approximately 1,200 feet downstream of South Wadswoth Boulevard | * 5,373
Bear Creek Tributary No. 3: |  | Jefferson County (Uninc. Areas).
Approximately 400 feet downstream of Dedisse Park Road | * 7,174
Approximately 1,300 feet upstream of Dedisse Park Road | * 7,260
Lena Gulch: |  | City of Golden.
Approximately 600 feet upstream of Orion Street | * 5,828
Approximately 1,500 feet downstream of U.S. Highway 6 | * 5,885
Approximately 300 feet downstream of U.S. Highway 6 | * 5,913
Little Dry Creek: Just downstream of Lowell Boulevard | * 5,267 | City of Westminster.
Sanderson Gulch: Approximately 50 feet upstream of Sheridan Boulevard | *5,415 | City of Lakewood.
Ralston Creek: |  | Jefferson County (Uninc. Areas).
Approximately 1,050 feet upstream of Ward Street | * 5,458
Approximately 700 feet downstream of Beech Street | * 5,472
Approximately 3,050 feet downstream of Indian Street | * 5,514
Approximately 100 feet downstream of Indian Street | * 5,534
Van Bibber Creek: |  | Jefferson County (Uninc. Areas).
Just downstream of Miller Street | * 5,374
Just upstream of Ward Road Bridge | * 5,438
Walnut Creek: Approximately 1,800 feet upstream of the confluence with Countryside Creek | * 5,360 | Jefferson County (Uninc. Areas).
Weir Gulch: |  | City of Lakewood.
Approximately 1,700 feet downstream of Ohio Avenue | * 5,374
Just upstream of Sheridan Boulevard | * 5,365
Addresses:
Jefferson County (Unincorporated Areas): Maps are available for inspection at City Hall, 100 Jefferson County Parkway, Suite 3, Golden, Colorado.
City of Golden: Maps are available for inspection at the Planning Department, 1445 10th Street, Golden, Colorado.
City of Lakewood: Maps are available for inspection at the Engineering Division, 445 South Allison Parkway, Lakewood, Colorado.
City of Westminster: Maps are available for inspection at City Hall, 4800 West 92nd Avenue, Westminster, Colorado.

(Catalog of Federal Domestic Assistance No. 83.100, “Flood Insurance.”)

Dated: April 30, 2003.
Anthony S. Lowe,
Mitigation Division Director, Emergency Preparedness and Response Directorate.

[FR Doc. 03-11105 Filed 5-5-03; 8:45 am]

BILLING CODE 6718-04-P